ENVIRONMENTAL PROTECTION AGENCY

[FRL OP-OFA-122]

Environmental Impact Statements; Notice of Availability

Responsible Agency: Office of Federal Activities, General Information 202-564-5632 or https://www.epa.gov/nepa.

Weekly receipt of Environmental Impact Statements (EIS)

Filed April 8, 2024 10 a.m. EST Through April 15, 2024 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20240065, Final, USAF, CA, KC-46A MOB 5 Beddown, Review Period Ends: 05/20/2024, Contact: Mr. Austin Naranjo 478-222-9225.

EIS No. 20240066, Final Supplement, GSA, MN, Land Port of Entry Modernization and Expansion Project at International Falls MN, Review Period Ends: 05/20/2024, Contact: Michael Gonczar 312-810-2326.

EIS No. 20240067, Draft, BLM, NV, Rhyolite Ridge Lithium-Boron Mine Project, Comment Period Ends: 06/03/2024, Contact: Scott Distel 775-635-4093.

EIS No. 20240068, Draft, BLM, AZ, Jove Solar Energy Project, Comment Period Ends: 06/03/2024, Contact: Derek Eysenbach 480-352-4158.

EIS No. 20240069, Draft, USA, HI, Army Training Land Retention at Pohakuloa Training Area, Comment Period Ends: 06/07/2024, Contact: Matthew B. Foster 808-656-6821.

EIS No. 20240070, Final, NOAA, NY, Lake Ontario National Marine Sanctuary Final Environmental Impact Statement and Final Management Plan, Review Period Ends: 05/20/2024, Contact: Ellen Brody 734-741-2270.

EIS No. 20240071, Draft, BLM, NV, GridLiance West Core Upgrades Transmission Line Project Draft Environmental Impact Statement and Resource Management Plan Amendment, Comment Period Ends: 07/18/2024, Contact: Lisa Moody 702-515-5000.

EIS No. 20240072, Draft, NRC, MD, Site-Specific Environmental Impact Statement for License Renewal of Nuclear Plants Supplement 26, Second Renewal Regarding Subsequent License Renewal for Monticello Nuclear Generating Plant, Unit 1, Comment Period Ends: 06/03/2024, Contact: Jessica Umana 301-415-5207.

Dated: April 15, 2024.
Nancy Abrams,
Associate Director, Office of Federal Activities.

[FR Doc. 2024-08385 Filed 4-18-24; 8:45 am]

BILLING CODE 6560-50-P